DEPARTMENT OF TRANSPORTATION

Pipeline and Hazardous Materials Safety Administration

Special Permit Applications; Office of Hazardous Materials Safety

AGENCY: Pipeline And Hazardous Materials Safety Administration (PHMSA), DOT.

ACTION: Notice of actions on Special Permit Applications.

SUMMARY: In accordance with the procedures governing the application for, and the processing of, special permits from the Department of Transportation's Hazardous Material Regulations (49 CFR part 107, subpart B), notice is hereby given of the actions on special permits applications in (June to June 2015). The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on July 20, 2015.
Ryan Paquet,
Director, Approvals and Permits Division.

S.P. No. | Applicant | Regulation(s) | Nature of special permit thereof
MODIFICATION SPECIAL PERMIT GRANTED
8451-M | Special Devices, Inc. Mesa, AR | 49 CFR 173.320, 173.54(a), 173.56(b), 173.57, 173.58, and 173.60 | To modify the special permit to authorize forbidden explosives (Section 173.56(j)).
10180-M | Fireboy-Xintex, Inc. Grand Rapids, MI | 49 CFR 173.304(a)(2); 180.209 | To modify the special permit to authorize an additional fire extinguisher design.
14301-M | Gascon (Pty) Ltd Elsied River, South Africa | 49 CFR 178.274(b) and 18.276(b)(1) | To modify the special permit to authorize manufacture of UN portable tanks in accordance with ASME Section VIII Division 2, latest edition
14849-M | Call2Recycle, Inc. Atlanta, GA | 49 CFR 172.200, 172.300, 172.400 | To modify the special permit to authorize dry cell alkaline batteries up to 12 volts in combination with any other used or spent batteries rated greater than 9-volts in the same package.
NEW SPECIAL PERMIT GRANTED
16193-N | CHI Technologies, Inc. Santa Paula, CA | 49 CFR 180.209(a) | To authorize the transportation in commerce of certain DOT 4BW cylinders that are requalified every 10 years instead of every 5 years when used exclusively in non-corrosive service. (mode 1)
16261-N | Dexsil Corporation Hamden, CT | 49 CFR 172.101(c)(2), Special Provisions A3, 173.13(c)(2)(ii), 173.13(c)(1)(iii), 173.13(c)(1)(iv), 5;3.1.1 of the ICAO TI, 4;6.2, Packing Instruction 480 of the ICAO TI | To authorize the transportation in commerce of small quantities of certain Division 4.3 materials in specially-designed Packing shipped shipped without labels. (modes 1, 2, 4)
16232-N | Linde Gas North America LLC Murray Hill, NJ | 49 CFR 171.23(a)(1), 171.23(a)(2)(ii) 171.23(a)(3), 173.301(f)(3), 173.301(g) | To authorize the transportation in commerce of non-DOT cylinders containing a Division 2.2 compressed gas. (modes 1, 2, 3)
16348-N | Premier Filling Company, Inc. Hoffman Estates, IL | 49 CFR 173.306(a)(3)(v) | To authorize the transportation in commerce of Division 2.2 hazardous materials in certain DOT Specification 2Q non-refillable steel inner containers, which have been tested by an alternative method in lieu of the hot water bath test. (mode 1)
16394-N | Cellco Partnership Basking Ridge, NJ | 49 CFR Subparts C through H of Part 172, 173.185(f) | To authorize the transportation in commerce of damaged or defective lithium ion cells and batteries and equipment containing these cells or batteries that originally met the requirements under 49 CFR 173.185(c). (modes 1, 2)
16415-N | Volkswagen Group of America VWGoA) Herndon, VA | 49 CFR 173.302a | To authorize the transportation in commerce of certain Division 2.1 and 2.2 compressed gases in non-DOT specification cylinders manufactured to a foreign specification. (modes 1, 3)
16417-N | CB&I AREVA MOX Services, LLC Aiken, SC | 49 CFR 173.420(a)(2)(i) 173.420(a)(3(i) | To authorize the one-way transportation in commerce of six 48G cylinders containing depleted uranium hexafluoride that do not meet the specifications in ANSI NI4.1. (mode 1)
EMERGENCY SPECIAL PERMIT GRANTED
16437-M | U.S. Department of Justice, Bureau of Alcohol, Tobacco, Firearms and Explosives ATF) Washington, DC | 49 CFR 173.56(b), and 172.320 | To modify the special permit to authorize additional sites for the research testing project. (mode 1)
16519-N | Space Exploration Technologies Corp. Hawthorne, CA | 49 CFR 173.62 Packing Instruction 138 | To authorize the transportation in commerce of certain hazardous materials that are components of the Falcon Launch Vehicle Flight Termination System (FTS). (modes 1, 3)
16489-N | Coastal Helicopters Van Nuys, CA | 49 CFR 172.101 Column (9B), § 172.204(c)(3), § 173.27(b)(2), § 175.30(a)(1), §§ 172.200, 172.300, 172.400, 173.302(f)(3) and § 175.75 | To authorize the transportation in commerce of certain hazardous materials by 14 CFR Part 133 Rotorcraft External Load Operations, transporting hazardous materials attached to or suspended from an aircraft, in remote areas of the U.S. only, without being subject to hazard communication requirements, quantity limitations and certain loading and stowage requirements. (mode 4)
16507-N | Atlas Air, Inc. Purchase, NY | 49 CFR 172.101 Column (8B), 172.204(o)(3) | To authorize the transportation in commerce of certain explosives, by cargo aircraft only, which is otherwise forbidden by the regulations. (mode 4)
16508-N | Kalitta Air, LLC Ypsilanti, MI | 49 CFR 172.101 Table Column (9B), 172.204(c)(3), 173.27(b)(2), (3), and 175.30(a)(1) | To authorize the one-time transportation in commerce of certain explosives that are forbidden for transportation by cargo only aircraft. (mode 4)
16509-N | Kalitta Air, LLC Ypsilanti, MI | 49 CFR 172.101 Table Column (9B), 172.204(c)(3), 173.27(b)(2), (3), and 175.30(a)(1) | To authorize the one-time transportation in commerce of certain explosives that are forbidden for transportation by cargo only aircraft. (mode 4)
16510-N | Apple, Inc. Cupertino, CA | 49 CFR 173.185(f) | To authorize the transportation in commerce of lithium batteries in non-DOT specification packaging. (modes 1, 3)
16502-N | Kalitta Air, LLC Ypsilanti, MI | 49 CFR 172.101 Table Column (9B), 172.204(c)(3), 173.27(b)(2), (3), and 175.30(a)(1) | To authorize the one-time transportation in commerce of certain explosives that are forbidden for transportation by cargo only aircraft. (mode 4)
16503-N | Construction Helicopters, Inc. Howell, MI | 49 CFR 172.101 Hazardous Materials Table Column (9B), 172.200, 172.204(c)(3), 172.300, 172.400, 173.315(j) | To authorize the transportation in commerce of propane by 14 CFR part 133 Rotorcraft External Load Operations transporting hazardous materials attached to or suspended from an aircraft without being subject to certain hazard communication requirements, quantity limitations and certain loading and stowage requirements. (mode 4)
MODIFICATION SPECIAL PERMIT WITHDRAWN
15393-M | Savannah Acid Plant LLC Savannah, GA | 49 CFR 173.31(d)(1)(vi) | To modify the special permit to discontinue tracking 10% of the fleet individual railcars, and instead monitor the annual change out for the entire fleet.
16420-M | Construction Helicopters, Inc. Howell, MI | 49 CFR 172.101 Hazardous Materials Table Column (9B), 172.200, 172.204(c)(3), 172.300, 172.400, 173.315(j) | To modify the special permit originally issued on an emergency basis to authorized an additional two years.
NEW SPECIAL PERMIT WITHDRAWN
16471-N | CVS Pharmacy, Inc. Woonsocket, RI | 49 CFR 172.312(a)(2), 172.315, 172.316 | To authorize the transportation in commerce of small quantities of ORM-D materials and compatible limited quantity materials in hard plastic packagings (shipping totes) without certain markings when shipped between CVS Pharmacy, Inc. distribution centers. (mode 1)
16499-N | Princeton University Princeton, NJ | 49 CFR 173.199 | To authorize the transportation in commerce of live mice infected with the hepatitis B virus in alternative packaging. (mode 1)
16505-N | Gas Cylinder Technologies Inc. Belle River, Canada | 49 CFR 172.301(c), 178.35(f)(1)(ii) | To authorize the manufacture, mark, sale and use of DOT specification 3AA cylinders marked with the lot number in lieu of the serial number. (modes 1, 2, 3, 4, 5)
DENIED
7945-M | Request by Pacific Scientific Company Simi Valley, CA June 4, 2015. To modify the special permit to exempt sufficient outage when cylinders are full.
14227-M | Request by Aluminum Tank Industries, Inc. Winter Haven, FL. June 10, 2015. To modify the special permit to authorize a pump and hose to remain attached during transportation when the discharge outlet is below the highest point of the tank and allow the tanks to be marked as UN 31B intermediate bulk containers.

[FR Doc. 2015-18723 Filed 7-31-15; 8:45 am]

BILLING CODE 4909-60-M